DEPARTMENT OF COMMERCE

International Trade Administration

(A-570-878)

Saccharin from the People's Republic of China: Notice of Extension of Time Limit for the Preliminary Results of the Antidumping Duty Administrative Review

AGENCY: Import Administration, International Trade Administration, Department of Commerce.

EFFECTIVE DATE: March 23, 2007.

FOR FURTHER INFORMATION CONTACT: Ann Fornaro or Fran Veith, AD/CVD Operations, Office 8, Import Administration, International Trade Administration, U.S. Department of Commerce, 14th Street and Constitution Avenue, NW, Washington, DC 20230; telephone: (202) 482-3927 and (202) 482-4295, respectively.

SUPPLEMENTARY INFORMATION:

Background

On July 3, 2006, the Department of Commerce (“Department”) published a notice of opportunity to request an administrative review of the antidumping duty order on saccharin from the People's Republic of China (“PRC”). See Antidumping or Countervailing Duty Order, Finding, or Suspended Investigation; Opportunity To Request Administrative Review, 71 FR 37890 (July 3, 2006). We received timely requests for review from Amgal Chemical Products (1989) Ltd. (“Amgal”), Shanghai Fortune Chemical Company, Ltd. (“Shanghai Fortune”), and Suzhou Fine Chemical Co. Group Ltd. (“Suzhou”).

On August 30, 2006, the Department published a notice of the initiation of the administrative review of the antidumping duty order on saccharin from the PRC for the period July 1, 2005, through June 30, 2006. See Initiation of Antidumping and Countervailing Duty Administrative Reviews and Requests for Revocation in Part, 71 FR 51573 (August 30, 2006). On October 16, 2006, Suzhou withdrew its request for an administrative review. On November 14, 2006, Amgal withdrew its request for an administrative review. On December 26, 2006, we rescinded the administrative review with respect to Suzhou and Amgal. See Saccharin from the People's Republic of China: Notice of Partial Rescission of Antidumping Duty Administrative Review, 71 FR 77382 (December 26, 2006). The preliminary results of review are currently due no later than April 2, 2007.

Extension of Time Limit for Preliminary Results of Review

Pursuant to section 751(a)(3)(A) of the Tariff Act of 1930, as amended (“Act”), the Department shall make a preliminary determination in an administrative review of an antidumping duty order within 245 days after the last day of the anniversary month of the date of publication of the order. The Act further provides, however, that the Department may extend that 245-day period to 365 days if it determines it is not practicable to complete the review within the foregoing time period.

The Department finds that it is not practicable to complete the preliminary results of the administrative review of saccharin from the PRC within this time limit due to the complexity of certain issues and the need to issue supplemental questionnaires requesting additional information from Shanghai Fortune. Specifically, the Department needs additional time to research and analyze the request for by-product offsets and the valuation of those by-products for which an offset was requested. Therefore, in accordance with section 751(a)(3)(A) of the Act, the Department is extending the time period for completion of the preliminary results of this review by 30 days until May 2, 2007.

This notice is published in accordance with sections 751(a)(3)(A) and 777(i)(1) of the Act.

Dated: March 19, 2007.
Stephen J. Claeys,
Deputy Assistant Secretary for Import Administration.

[FR Doc. E7-5379 Filed 3-22-07; 8:45 am]

BILLING CODE 3510-DS-S